DEPARTMENT OF COMMERCE

National Oceanic and Atmospheric Administration

Hydrographic Services Review Panel Meeting

AGENCY: National Ocean Service, National Oceanic and Atmospheric Administration, Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters the Under Secretary refers to the Panel for review and advice.

Date and Time: The meeting will be held Monday, November 15, 2004, from 8:30 a.m. to 2:30 p.m., and Tuesday, November 16, 2004, from 8:30 am to 4:30 pm.

Location: Nauticus—The National Maritime Center, One Waterside Drive, Norfolk, Virginia 23510; telephone: 757-664-1000, or NOAA's mid-Atlantic Navigation Manager at 757-627-7072; Web site: http://www.nauticus.org.

The times and agenda topics may be subject to change. Refer to the Web site listed below for the most up-to-date meeting agenda.

FOR FURTHER INFORMATION CONTACT: CAPT Roger Parsons, Designated Federal Officer, Office of Coast Survey, National Ocean Service, NOAA (N/CS), 1315 East West Highway, Silver Spring, Maryland, 20910. Phone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to public participation with a 30-minute period set aside for verbal comments or questions from the public on November 16, 2004, at approximately 3 pm. Each individual or group making a verbal presentation will be limited to a total time of five (5) minutes. Written comments (at least 30 copies) should be submitted to the Designated Federal Official by November 8, 2004. Written comments received by the HSRP Designated Federal Official after November 8, 2004, will be distributed to the HSRP, but may not be reviewed prior to the meeting date. Approximately ten (10) seats will be available for the public, on a first-come, first-served basis.

Matters to be Considered: Topics planned for discussion include: (1) Hydrographic Services Operating Principles, (2) Finalized National Hydrographic Survey Priorities, (3) Quality Assurance Program for Hydrographic Products, (4) Formation of Subcommittees, Workgroups and/or Task Groups and, (5) Public Statements.

Dated: October 14, 2004.
Roger L. Parsons,
Director, Office of Coast Survey, National Ocean Service, National Oceanic and Atmospheric Administration.

[FR Doc. 04-23411 Filed 10-19-04; 8:45 am]

BILLING CODE 3510-JE-P